DEPARTMENT OF THE INTERIOR

Bureau of Ocean Energy Management

[OMB Control Number 1010-0191; Docket ID: BOEM-2023-0004]

Agency Information Collection Activities; Negotiated Noncompetitive Agreement for the Use of Sand, Gravel, and Shell Resources on the Outer Continental Shelf

AGENCY: Bureau of Ocean Energy Management, Interior.

ACTION: Notice of information collection; request for comment.

SUMMARY: In accordance with the Paperwork Reduction Act of 1995, the Bureau of Ocean Energy Management (BOEM) proposes this information collection request (ICR) to renew Office of Management and Budget (OMB) control number 1010-0191.

DATES: Comments must be received by BOEM no later than July 25, 2023.

ADDRESSES: Send your comments on this ICR by mail to the BOEM Information Collection Clearance Officer, Anna Atkinson, Bureau of Ocean Energy Management, 45600 Woodland Road, Sterling, Virginia 20166; or by email to anna.atkinson@boem.gov. Please reference OMB control number 1010-0191 in the subject line of your comments. You may also view the ICR and its related documents by searching the docket number “BOEM-2023-0004” at http://www.regulations.gov.

FOR FURTHER INFORMATION CONTACT: Anna Atkinson by email at anna.atkinson@boem.gov, or by telephone at 703-787-1025. Individuals in the United States who are deaf, deafblind, hard of hearing, or have a speech disability may dial 711 (TTY, TDD, or TeleBraille) to access telecommunications relay services. Individuals outside of the United States should use the relay services offered within their country to make international calls to the point-of-contact in the United States.

SUPPLEMENTARY INFORMATION: In accordance with the Paperwork Reduction Act of 1995, BOEM provides the general public and other Federal agencies with an opportunity to comment on new, proposed, revised, and continuing collections of information. This helps BOEM assess the impact of its information collection requirements and minimize the public's reporting burden. It also helps the public understand BOEM's information collection requirements and provide the requested data in the desired format.

BOEM is soliciting comments on the proposed ICR described below. BOEM is especially interested in public comments addressing the following issues: (1) is the collection necessary to the proper functions of BOEM; (2) what can BOEM do to ensure that this information is processed and used in a timely manner; (3) is the burden estimate accurate; (4) how might BOEM enhance the quality, utility, and clarity of the information to be collected; and (5) how might BOEM minimize the burden of this collection on the respondents, including minimizing the burden through the use of information technology?

Comments submitted in response to this notice are a matter of public record. BOEM will include or summarize each comment in its ICR to OMB for approval of this information collection. You should be aware that your entire comment—including your address, phone number, email address, or other personally identifiable information included in your comment—may be made publicly available at any time.

For BOEM to consider withholding from disclosure your personally identifiable information, you must identify, in a cover letter, any information contained in your comment that, if released, would constitute a clearly unwarranted invasion of your privacy. You must also briefly describe any possible harmful consequences of the disclosure of information, such as embarrassment, injury, or other harm.

Even if BOEM withholds your personally identifiable information in the context of this ICR, your comment is subject to the Freedom of Information Act (FOIA) (5 U.S.C. 552). If your comment is requested under FOIA, your information will only be withheld if a determination is made that one of the FOIA exemptions to disclosure applies. Such a determination will be made in accordance with the Department of the Interior's (DOI) FOIA implementing regulations (43 CFR part 2) and applicable law.

BOEM will make available for public inspection all comments in their entirety (except proprietary information) submitted by organizations and businesses, or by individuals identifying themselves as representatives of organizations or businesses. BOEM protects proprietary information in accordance with FOIA and the DOI's implementing regulations.

Title of Collection: “30 CFR part 583, Negotiated Noncompetitive Agreements for the Use of Outer Continental Shelf Sand, Gravel, and/or Shell Resources.”

Abstract: In 2017, BOEM published a final rule that created part 583 in title 30 of the Code of Federal Regulations to address the use of Outer Continental Shelf (OCS) sand, gravel, and shell resources for shore protection, beach restoration, or coastal wetlands restoration projects by Federal, State, or local government agencies, or for use in construction projects authorized by or funded in whole or in part by the Federal Government.

The OCS Lands Act, 43 U.S.C. 1331 et seq., authorizes the Secretary of the Interior to prescribe rules and regulations to administer leasing of mineral resources on the OCS. Section 1337(k)(2) of title 43 authorizes the Secretary to “. . . negotiate with any person an agreement for the use of Outer Continental Shelf sand, gravel and shell resources—(i) for use in a program of, or project for, shore protection, beach restoration, or coastal wetlands restoration undertaken by a Federal, State, or local government agency; or (ii) for use in a construction project . . . that is funded in whole or in part by or authorized by the Federal Government.” The Secretary delegated this authority to BOEM.

OMB Control Number: 1010-0191.

Form Number: None.

Type of Review: Extension of a currently approved collection.

Respondents/Affected Public: Potential respondents include Federal, State, or local governments.

Total Estimated Number of Annual Responses: 45 responses.

Total Estimated Number of Annual Burden Hours: 299 hours (Hours are same as currently approved).

Respondent's Obligation: Required to retain or obtain a benefit.

Frequency of Collection: On occasion.

Total Estimated Annual Non-hour Burden Cost: BOEM has identified no non-hour paperwork cost burdens for this collection.

Estimated Reporting and Recordkeeping Hour Burden: BOEM estimates that the annual reporting burden for this collection is 299 hours. BOEM has reviewed the hour burdens for requested information under this subpart. The following table details the regulatory sections containing information collections and their respective hour burden estimates.

Burden Table
Citation 30 CFR 583 subpart A | Reporting and recordkeeping requirement | Hour burden | Average number of annual responses | Annual burden hours
Subpart A—General—Federal, State, & local governments
125 | Apply for reconsideration to the BOEM Director within 15 days of notification; include statement of reasons; 1 copy to program office. | 4 | 1 | 4
Total Subpart A |  |  | 1 | 4

Citation 30 CFR 583 subpart C | Reporting and recordkeeping requirement | Hour burden | Average number of annual responses | Annual burden hours
Subpart C—OCS Sand, Gravel, & Shell Resources Negotiated Agreements—State & local governments
300 | Submit to BOEM a written request to obtain agreement; including, but not limited to: detailed description of project; borrow area(s) and placement area(s); maps (geographic coordinates); G&G data; description/documentation of environmental evaluations; target dates; description of parties involved; status of required permits, licenses, or authorizations; description of potential conflicts with CZMA plans and other applicable requirements; points of contact info. of all parties involved; statement of funding | 20 | 8 | 160
305; 310(d) | Submit additional information as requested by BOEM | 5 | 5 | 25
315(b); | Request BOEM Director reconsideration of a disapproved agreement | Burden covered under 30 CFR 583 Subpart A |  | 0
315(c)-(e) | Review, comment, and negotiate draft agreement; sign and return copies for execution by BOEM | 8 | 8 | 64
335(a) | Submit written notification to BOEM once resources authorized are obtained | 2 | 8 | 16
340 | Verify that all contractors comply with 2 CFR 180 & 2 CFR 1400 in contract/transaction | 2 | 8 | 16
345 | Submit written request to extend, modify, or change agreement to BOEM at least 180 days before expiration; any necessary information and evaluations documentation requested by BOEM; sign and return amendment; request BOEM Director reconsideration | 2 | 2 | 4
345(b) | Submit written request for letter amendment | 2 | 5 | 10
Total Subpart C |  |  | 44 | 295
Overall Total |  |  | 45 | 299

An agency may not conduct or sponsor, and a person is not required to respond to, a collection of information unless it displays a currently valid OMB control number. The authority for this action is the Paperwork Reduction Act of 1995 (44 U.S.C. 3501 et seq.).

Karen Thundiyil,
Chief, Office of Regulations, Bureau of Ocean Energy Management.

[FR Doc. 2023-11308 Filed 5-25-23; 8:45 am]

BILLING CODE 4340-98-P